DEPARTMENT OF TRANSPORTATION

Federal Transit Administration

49 CFR Part 672

[Docket No. FTA-2025-0009]

RIN 2132-AB58

Public Transportation Safety Certification Training Program

AGENCY: Federal Transit Administration (FTA), Department of Transportation (DOT).

ACTION: Notice of proposed rulemaking (NPRM).

SUMMARY: FTA is proposing changes to the reporting requirements for the Public Transportation Safety Certification Training Program (PTSCTP). The proposed revisions would reduce reporting burdens for rail transit agencies and State Safety Oversight Agencies (SSOA).

DATES: Comments should be filed by September 2, 2025. FTA will consider comments received after that date to the extent practicable.

ADDRESSES: You may send comments, identified by docket number FTA-2025-0009, by any of the following methods:

• Federal Rulemaking Portal: https://www.regulations.gov. Follow the instructions for sending comments.

• Fax: (202) 493-2251.

• Mail: Docket Management Facility, U.S. Department of Transportation, 1200 New Jersey Avenue SE, West Building Ground Floor, Room W12-140, Washington, DC 20590-0001.

• Hand Delivery/Courier: West Building Ground Floor, Room W12-140, 1200 New Jersey Avenue SE, Washington, DC, between 9 a.m. and 5 p.m. ET, Monday through Friday, except Federal holidays.

Instructions: All submissions received must include the agency name and docket number or Regulatory Information Number (RIN) for this rulemaking. All comments received will be posted without change to https://www.regulations.gov, including any personal information provided.

Docket: For access to the docket to read background documents or comments received, go to https://www.regulations.gov. Background documents and comments received may also be viewed at the U.S. Department of Transportation, 1200 New Jersey Ave. SE, Docket Operations, M-30, West Building Ground Floor, Room W12-140, Washington, DC 20590-0001, between 9 a.m. and 5 p.m. EST, Monday through Friday, except Federal holidays.

FOR FURTHER INFORMATION CONTACT: For program matters, contact Jeremy Furrer, Office of Transit Safety and Oversight (TSO), (202) 366-8929 or jeremy.furrer@dot.gov. For legal matters, contact Mark Montgomery, Office of Chief Counsel, (202) 366-1017 or mark.montgomery@dot.gov. Office hours are from 8:30 a.m. to 5 p.m., Monday through Friday, except Federal holidays.

SUPPLEMENTARY INFORMATION:

Table of Contents

I. Executive Summary

A. Statutory Authority

B. Background

C. Summary of Provisions

D. Benefits and Costs

II. Regulatory Analyses and Notices

I. Executive Summary

This NPRM proposes to amend the PTSCTP regulation at 49 CFR part 672. The proposed rule maintains the existing minimum training requirements for State Safety Oversight Agency (SSOA) employees and contractors who conduct reviews, inspections, examinations, and other safety oversight activities of public transportation systems, and employees and contractors who are directly responsible for the safety oversight of a rail fixed guideway public transportation system. However, the NPRM proposes changes to reduce the burden of the semiannual reporting requirement in 49 CFR 672.21(d) by reducing the reporting frequency from semi-annual to annual.

A. Statutory Authority

Congress directed FTA to create and implement a comprehensive Public Transportation Safety Program, one element of which is the requirement for PTSCTP, in the Moving Ahead for Progress in the 21st Century Act (MAP-21) (Pub. L. 112-141; July 6, 2012), codified at 49 U.S.C. 5329. Specifically, 49 U.S.C. 5329(c) directed FTA to establish a PTSCTP for Federal and State employees, or other designated personnel, who conduct safety audits and examinations of public transportation systems and employees of public transportation agencies directly responsible for safety oversight.

B. Background

To implement the requirements of 49 U.S.C. 5329(c), FTA issued a final rule on July 19, 2018, that added part 672, “Public Transportation Safety Certification Training Program,” to title 49 of the Code of Federal Regulations (83 FR 34053). Subsequently, the Infrastructure Investment and Jobs Act (Pub. L. 117-58; November 15, 2021), added new requirements to FTA's Public Transportation Safety Program that FTA addressed in the PTSCTP curriculum through a final rule on August 14, 2024 (89 FR 65999). To ensure compliance with safety training requirements, the 2024 final rule established a semiannual reporting requirement at 49 CFR 672.21(d) for each SSOA and RTA to submit a current list of individuals designated as required PTSCTP participants, and the course or courses that that agency has identified as required for PTSCTP recertification.

On April 3, 2025, as part of its implementation of E.O. 14219, “Ensuring Lawful Governance and Implementation of the President's `Department of Government Efficiency' Deregulatory Agenda,” issued on February 19, 2025, and E.O. 14192, “Unleashing Prosperity through Deregulation,” issued on January 31, 2025, DOT issued a request for information (RFI) seeking comments and information to assist DOT in identifying existing regulations, guidance, paperwork requirements, and other regulatory obligations to be modified or repealed, consistent with law, to achieve meaningful burden reduction while continuing to meet statutory obligations and ensure the safety of the U.S. transportation system (90 FR 14953). In response to the RFI, the American Public Transportation Association (APTA), a nonprofit group that advocates for the interests of the public transportation industry in the United States, commented that the semiannual reporting requirement in 49 U.S.C. 672.21(d) is an “undue burden” on transit agencies. APTA also noted that some SSOAs are implementing this requirement through the program standards they must establish under 49 CFR 674.27. Responsive to APTA's comment, and to achieve meaningful burden reduction, FTA proposes to reduce the frequency of the reporting requirement from semiannual to annual.

C. Summary of Provisions

FTA proposes to amend 49 CFR 672.21(d) to require annual, rather than semiannual, reporting of compliance with safety training requirements.

II. Regulatory Analyses and Notices

Executive Order 12866 and 13563 (Regulatory Review)

E.O. 12866 (“Regulatory Planning and Review”), as supplemented by E.O. 13563 (“Improving Regulation and Regulatory Review”), directs Federal agencies to assess the benefits and costs of regulations and to select regulatory approaches that maximize net benefits when possible. This action does not meet the criteria of a “significant regulatory action.” Therefore, the Office of Management and Budget (OMB) has not reviewed this action.

The proposed rule would reduce reporting requirements for SSOAs and rail transit agencies subject to the PTSCTP. Currently, agencies must report information on designated participants and recertification courses semiannually to FTA; the proposed rule would reduce the frequency from semiannual to annual.

The reduced reporting requirements would result in cost savings for regulated entities. The requirements affect 31 SSOAs and 64 rail transit agencies in operation as of March 1, 2023, for a total of 95 agencies. In the 2024 final rule, FTA estimated that an agency would spend 4 hours per year to fulfill semi-annual reporting requirements, for a total of 380 hours per year across the 95 agencies. Reducing the frequency to annual reporting would result in a total savings of 190 hours (380 hours ÷ 2) per year.

To estimate cost savings, FTA used May 2024 occupational wage data from the Bureau of Labor Statistics, the latest available as of May 2025, in the “Transit and Ground Passenger Transportation” industry (North American Industry Classification System code 485000).¹ To estimate the wages of agency staff completing the auditing requirements, FTA used the “General and Operations Managers” job category (code 11-1021). FTA used median hourly wages ($42.45) as a basis for the estimates, multiplying the wages by 1.62 ($42.45 × 1.62 = $68.69) to account for employer benefits.²

¹ Bureau of Labor Statistics. 2025. “May 2024 National Occupational Employment and Wage Estimates: United States: NAICS 485000—Transit and Ground Passenger Transportation.” https://data.bls.gov/oes/#/industry/485000.

² Multiplier derived using Bureau of Labor Statistics data on employer costs for employee compensation in December 2024 (https://www.bls.gov/news.release/ecec.htm). Employer costs for state and local government workers averaged $63.46 an hour, with $39.22 for wages and $24.23 for benefit costs. To estimate full costs from wages, one would use a multiplier of $63.46/$39.22, or 1.62.

Over the next ten years, the rule would result in annual cost savings of $11,000 discounted at a 3 percent rate and $9,000 discounted at a 7 percent rate in 2024 dollars.

Executive Order 14192 (Deregulatory Action)

E.O. 14192 (“Unleashing Prosperity Through Deregulation”) requires that for “each new [E.O. 14192 regulatory action] issued, at least ten prior regulations be identified for elimination.” Implementation Guidance for E.O. 14192, issued by OMB (Memorandum M-25-20, March 25, 2025) defines an E.O. 14192 deregulatory action as “an action that has been finalized and has total costs less than zero.” This proposed rule, if finalized, is expected to have total costs less than zero, and therefore is expected to be an E.O. 14192 deregulatory action.

Regulatory Flexibility Act

The Regulatory Flexibility Act of 1980 (RFA) (5 U.S.C. 601 et seq.) requires Federal agencies to assess the impact of a regulation on small entities unless the agency determines that the regulation is not expected to have a significant economic impact on a substantial number of small entities.

Under the Act, public-sector organizations and local governments qualify as small entities if they serve a population of less than 50,000. RTAs do not qualify as small entities because they operate in urbanized areas with populations of more than 50,000, and SSOAs do not qualify because they are state agencies. In addition, this proposed rule would reduce regulatory burdens. Therefore, FTA certifies that the proposed rule would not have a significant effect on a substantial number of small entities.

Unfunded Mandates Reform Act of 1995

FTA has determined that this proposed rule does not impose unfunded mandates, as defined by the Unfunded Mandates Reform Act of 1995 (Pub. L. 104-4, March 22, 1995). This rule does not include a Federal mandate that may result in expenditures of $100 million or more adjusted for inflation in any one year, adjusted for inflation, by State, local, and tribal governments in the aggregate or by the private sector.

Executive Order 13132 (Federalism Assessment)

E.O. 13132 requires agencies to assure meaningful and timely input by State and local officials in the development of regulatory policies that may have a substantial direct effect on the States, on the relationship between the National Government and the States, or on the distribution of power and responsibilities among the various levels of government. This action has been analyzed in accordance with the principles and criteria contained in E.O. 13132, dated August 4, 1999, and FTA determined this action would not have a substantial direct effect or sufficient federalism implications on the States. FTA also determined this action would not preempt any State law or regulation or affect the States' ability to discharge traditional State governmental functions.

Executive Order 12372 (Intergovernmental Review)

The regulations implementing E.O. 12372 regarding intergovernmental consultation on Federal programs and activities do not apply to this rulemaking.

Paperwork Reduction Act

In compliance with the Paperwork Reduction Act of 1995 (44 U.S.C. 3501 et seq.), and OMB implementing regulation at 5 CFR 1320.8(d), FTA is seeking approval from OMB for a currently approved information collection, OMB control number 2132-0578, associated with the existing regulation. FTA believes there will be a reduction in burden hours per submission resulting from this rulemaking.

National Environmental Policy Act

FTA has analyzed this rule for the purposes of the National Environmental Policy Act of 1969 (NEPA). In accordance with 42 U.S.C. 4336 and DOT NEPA Order 5610.1C, FTA has determined that this rule is categorically excluded pursuant to 23 CFR 771.118(c)(4), “[p]lanning and administrative activities that do not involve or lead directly to construction, such as: [p]romulgation of rules, regulations, and directives.” This rulemaking is not anticipated to result in any environmental impacts, and there are no unusual or extraordinary circumstances present in connection with this rulemaking.

Executive Order 13175 (Tribal Consultation)

FTA has analyzed this proposed rule under E.O. 13175, dated November 6, 2000, and it will not have substantial direct effects on one or more Indian Tribes; will not impose substantial direct compliance costs on Indian Tribal governments; and will not preempt tribal laws. Therefore, a Tribal summary impact statement is not required.

Executive Order 13211 (Energy Effects)

FTA has analyzed this action under E.O. 13211, Actions Concerning Regulations That Significantly Affect Energy Supply, Distribution, or Use. FTA has determined this action is not a significant energy action under that order and is not likely to have a significant adverse effect on the supply, distribution, or use of energy. Therefore, a Statement of Energy Effects is not required.

Privacy Act

Anyone can search the electronic form of all comments received into any of our dockets by the name of the individual submitting the comment (or signing the comment, if submitted on behalf of an association, business, labor union, etc.). You may review DOT's complete Privacy Act Statement in the Federal Register at 65 FR 19477 (April 11, 2000).

Regulation Identifier Number

A Regulation Identifier Number (RIN) is assigned to each regulatory action listed in the Unified Agenda of Federal Regulations. The Regulatory Information Service Center publishes the Unified Agenda in April and October of each year. The RIN contained in the heading of this document can be used to cross-reference this proposed rule with the Unified Agenda.

List of Subjects in 49 CFR Part 672

Mass transportation, Reporting and recordkeeping requirements, Safety.

In consideration of the foregoing, and under the authority of 49 U.S.C. 5329 and 5334, and the delegation of authority at 49 CFR 1.91, the Federal Transit Administration proposes to amend title 49, Code of Federal Regulations, part 672, as set forth below:

PART 672—PUBLIC TRANSPORTATION SAFETY CERTIFICATION

1. The authority citation for part 672 continues to read as follows:

Authority: 49 U.S.C. 5329, 5334; 49 CFR 1.91.

2. Amend § 672.21 by revising paragraph (d) to read as follows:

§ 672.21 Records.

* * * * *

(d) Annual reporting. The identified POC must submit documentation annually to FTA, via electronic method defined by FTA, that identifies:

* * * * *

Issued in Washington, DC, under authority delegated in 49 CFR 1.91.
Tariq Bokhari,
Acting Administrator.

[FR Doc. 2025-12150 Filed 6-27-25; 4:15 pm]

BILLING CODE 4910-57-P